NEIGHBORHOOD REINVESTMENT CORPORATION

Sunshine Act Meeting; Audit Committee Meeting of the Board of Directors

TIME & DATE: 2:00 p.m., Monday, February 11, 2013.

PLACE: 1325 G Street NW., Suite 800, Boardroom, Washington, DC 20005.

STATUS: Open.

CONTACT PERSON FOR MORE INFORMATION: Erica Hall, Assistant Corporate Secretary (202) 220-2376; ehall@nw.org.

AGENDA:

I. Call to Order

II. External Auditors' Presentation

III. Executive Session with External Auditors

IV. Executive Session: Audit Committee

V. Executive Session with Internal Audit Director

VI. Executive Session with Officers

VII. Acceptance of the FY2012 Audited Financial Statements

VIII. Internal Audit Report with Management's Response

IX. Notation Vote Policy on Internal Audit Reports

X. Internal Audit Status Reports

XI. Other External Audit Status Reports

XII. National Foreclosure Mitigation Counseling (NFMC)/Emergency Homeowners Loan Program (EHLP) Compliance Update

XIII. OHTS Watch List

XIV. Adjournment

Erica Hall,
Assistant Corporate Secretary.

[FR Doc. 2013-02602 Filed 2-1-13; 4:15 pm]

BILLING CODE 7570-02-P